Proclamation 8468 of December 23, 2009

To Take Certain Actions Under the African Growth and Opportunity Act

By the President of the United States of America

A Proclamation

1. Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(c) of the AGOA, as added in section 6002 of the Africa Investment Incentive Act of 2006 (Division D, title VI of Public Law 109-432) (19 U.S.C. 3721(c)), provides special rules for certain apparel articles imported from “lesser developed beneficiary sub-Saharan African countries.”

4. In Proclamation 7350 of October 2, 2000, President Clinton designated the Republic of Guinea (Guinea), the Republic of Madagascar (Madagascar), and the Republic of Niger (Niger) as beneficiary sub-Saharan African countries pursuant to section 506A(a) of the 1974 Act and provided that they would be considered lesser developed beneficiary sub-Saharan African countries for purposes of section 112(b)(3)(B) (subsequently redesignated as section 112(c)) of the AGOA.

5. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act.

6. Pursuant to section 104 of the AGOA and section 506A(a)(1) of the 1974 Act, I have determined that the Islamic Republic of Mauritania (Mauritania) meets the eligibility requirements set forth or referenced therein, and I have decided to designate Mauritania as an eligible sub-Saharan African country and as a beneficiary sub-Saharan African country.

7. Mauritania satisfies the criterion for treatment as a “lesser developed beneficiary sub-Saharan African country” under section 112(c) of the AGOA.

8. Pursuant to section 506A(a)(3) of the 1974 Act, I have determined that Guinea, Madagascar, and Niger are not making continual progress in meeting the requirements described in section 506A(a)(1) of the 1974 Act. Accordingly, I have decided to terminate the designations of Guinea, Madagascar, and Niger as beneficiary sub-Saharan African countries for purposes of section 506A of the 1974 Act, effective on January 1, 2010.

9. Section 604 of the 1974 Act (19 U.S.C. 2483), as amended, authorizes the President to embody in the Harmonized Tariff Schedule of the United States (HTS) the substance of relevant provisions of that Act, or other acts affecting import treatment, and actions taken thereunder.

NOW, THEREFORE, I, BARACK OBAMA, President of the United States of America, acting under the authority vested in me by the Constitution and the laws of the United States of America, including but not limited to section 104 of the AGOA (19 U.S.C. 3703), and title V and section 604 of the 1974 Act (19 U.S.C. 2461-67, 2483), do proclaim that:

(1) Mauritania is designated as an eligible sub-Saharan African country and as a beneficiary sub-Saharan African country.

(2) In order to reflect this designation in the HTS, general note 16(a) to the HTS is modified by inserting in alphabetical sequence in the list of beneficiary sub-Saharan African countries “Islamic Republic of Mauritania.”

(3) For purposes of section 112(c) of the AGOA, Mauritania is a lesser developed beneficiary sub-Saharan African country.

(4) The designations of Guinea, Madagascar, and Niger as beneficiary sub-Saharan African countries for purposes of section 506A of the 1974 Act are terminated, effective on January 1, 2010.

(5) In order to reflect in the HTS that beginning on January 1, 2010, Guinea, Madagascar, and Niger shall no longer be designated as beneficiary sub-Saharan African countries, general note 16(a) to the HTS is modified by deleting “Republic of Guinea,” “Republic of Madagascar,” and “Republic of Niger” from the list of beneficiary sub-Saharan African countries.

Further, note 2(d) to subchapter XIX of chapter 98 of the HTS is modified by deleting “Republic of Guinea,” “Republic of Madagascar,” and “Republic of Niger” from the list of lesser developed beneficiary sub-Saharan African countries.

IN WITNESS WHEREOF, I have hereunto set my hand this twenty-third day of December, in the year of our Lord two thousand nine, and of the Independence of the United States of America the two hundred and thirty-fourth.

[FR Doc. E9-31097

Filed 12-29-09; 8:45 am]

Billing code 3195-W0-P